CONSUMER PRODUCT SAFETY COMMISSION

[Docket No. CPSC-2012-0030]

Agency Information Collection Activities; Extension of Collection; Comment Request; Testing and Recordkeeping Requirements for Carpets and Rugs

AGENCY: Consumer Product Safety Commission.

ACTION: Notice of information collection; request for comment.

SUMMARY: As required by the Paperwork Reduction Act of 1995, the Consumer Product Safety Commission (CPSC or Commission) requests comments on a proposed extension of approval of information collection requirements for manufacturers and importers of carpets and rugs in the Standard for the Surface Flammability of Carpets and Rugs and the Standard for the Surface Flammability of Small Carpets and Rugs, issued under the Flammable Fabrics Act (FFA). The Office of Management and Budget (OMB) previously approved the collection of information under control number 3041-0017. OMB's most recent extension of approval will expire on March 31, 2025. The Commission will consider all comments received in response to this notice before requesting an extension of this collection of information from OMB.

DATES: Submit comments on the collection of information by February 10, 2025.

ADDRESSES: You may submit comments, identified by Docket No. CPSC-2012-0030, within 60 days of publication of this notice by any of the following methods:

Electronic Submissions: Submit electronic comments to the Federal eRulemaking Portal at: http://www.regulations.gov. Follow the instructions for submitting comments. Do not submit through this website: confidential business information, trade secret information, or other sensitive or protected information that you do not want to be available to the public. The Commission typically does not accept comments submitted by email, except as described below.

Mail/hand delivery/courier/written submissions: CPSC encourages you to submit electronic comments by using the Federal eRulemaking Portal. You may, however, submit comments by mail/hand delivery/courier to: Office of the Secretary, Consumer Product Safety Commission, 4330 East-West Highway, Bethesda, MD 20814; telephone (301) 504-7923.

Instructions: All submissions received must include the agency name and docket number for this notice. CPSC may post all comments without change, including any personal identifiers, contact information, or other personal information provided, to: http://www.regulations.gov. If you wish to submit confidential business information, trade secret information, or other sensitive or protected information that you do not want to be available to the public, you may submit such comments by mail, hand delivery, or courier, or you may email them to cpsc-os@cpsc.gov.

Docket: For access to the docket to read background documents or comments received, go to: https://www.regulations.gov, insert Docket Number CPSC-2012-0030 into the “Search” box, and follow the prompts.

FOR FURTHER INFORMATION CONTACT: Cynthia Gillham, Consumer Product Safety Commission, 4330 East-West Highway, Bethesda, MD 20814; (301) 504-7791, or by email to: pra@cpsc.gov.

SUPPLEMENTARY INFORMATION: CPSC seeks to renew the following currently approved collection of information:

Title: Standard for the Flammability of Carpets and Rugs (FF-1-70), 16 CFR 1630, and Standard for the Flammability of Small Carpets and Rugs (FF 2-70), 16 CFR 1631.

OMB Number: 3041-0017.

Type of Review: Renewal of collection.

Frequency of Response: On occasion.

Affected Public: Manufacturers and importers of carpets and rugs.

General Description of Collection: Under the FFA, the Standard for the Surface Flammability of Carpets and Rugs (16 CFR part 1630) and the Standard for the Surface Flammability of Small Carpets and Rugs (16 CFR part 1631) establish requirements to reduce the flammability of carpets and rugs. 15 U.S.C. 1191-1204. The standards' provisions include requirements for testing and recordkeeping for manufacturers and importers who furnish guaranties subject to the carpet and rug flammability standards. The Consumer Product Safety Improvement Act of 2008 (CPSIA) established product certification requirements for applicable consumer product safety standards and rules. 15 U.S.C. 2063. Manufacturers and importers of carpets and rugs intended for general use must certify in a general conformity certificate (GCC) that the product complies with the applicable standards based on testing or a reasonable testing program. 16 CFR part 1110. Manufacturers and importers of children's carpets and rugs must certify in a children's product certificate (CPC) that the product complies with the applicable standards based on testing by a CPSC accredited third-party conformity assessment body. Id. Under the FFA, a manufacturer or importer can issue a guaranty of compliance, based on reasonable and representative testing, to retailers, distributors, or other manufacturers to declare that a product conforms with the applicable flammability standards. 15 U.S.C. 1197. 16 CFR 1608.

Estimated Number of Respondents: Approximately 120 manufacturers and importers of carpets and rugs are subject to the information collection requirements under the FFA. An estimated 100 manufacturers and importers of carpets and rugs issue a GCC or a CPC. In addition, an estimated 20 such firms elect to issue a guaranty of compliance with the FFA. Staff estimates that the average firm issuing a GCC, CPC, or guaranty under the FFA is required to conduct, on average, 100 tests per year, although the actual number of tests required by a given firm may vary, depending upon the number of carpet styles and the annual production volume.

Estimated Time per Response: For firms issuing a GCC or CPC, staff estimates that the time to conduct each test is two hours, including the time required to establish and maintain the test records. For firms issuing a guaranty of compliance, staff estimates that the time to conduct each test is 2.5 hours, including the time required to establish and maintain the test records.

Total Estimated Annual Burden: The total estimated annualized burden to respondents is 25,000 hours (20,000 hours for firms that issue a GCC/CPC plus 5,000 hours for firms that issue a guaranty of compliance).

Total Estimated Annual Cost to Respondents: The total annualized costs to all respondents for the hour burden for the collection of information is estimated to be as high as $1,840,250, using a mean hourly employer cost-per-hour-worked of $73.61 (Bureau of Labor Statistics: Total compensation rates for private industry workers in management, professional, and related occupations, Table 4, June 2024, https://www.bls.gov/news.release/archives/ecec_09102024.pdf) (25,000 hours × $73.61).

Request for Comments

The Commission solicits written comments from all interested persons about the proposed collection of information. The Commission specifically solicits information relevant to the following topics:

• whether the collection of information described above is necessary for the proper performance of the Commission's functions, including whether the information would have practical utility;

• whether the estimated burden of the proposed collection of information is accurate;

• whether the quality, utility, and clarity of the information to be collected could be enhanced; and

• whether the burden imposed by the collection of information could be minimized by use of automated, electronic or other technological collection techniques, or other forms of information technology.

Alberta E. Mills,
Secretary, Consumer Product Safety Commission.

[FR Doc. 2024-28898 Filed 12-9-24; 8:45 am]

BILLING CODE 6355-01-P